DEPARTMENT OF AGRICULTURE

Submission for OMB Review; Comment Request

The Department of Agriculture has submitted the following information collection requirement(s) to OMB for review and clearance under the Paperwork Reduction Act of 1995, Public Law 104-13. Comments are required regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by May 29, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Salmonella Control Strategies Pilot Projects.

OMB Control Number: 0583-NEW.

Summary of Collection: Food Safety and Inspection Service FSIS has been delegated the authority to exercise the functions of the Secretary (7 CFR 2.18 and 2.53), as specified in the Poultry Products Inspection Act (PPIA) (21 U.S.C. 451, et seq.). This statute mandates that FSIS protect the public by verifying that poultry products are safe, wholesome, and properly labeled. This ongoing, voluntary data collection will provide comprehensive information about pathogen control and the measurement strategies necessary for an effective poultry products inspection program.

Need and Use of the Information: On October 19, 2021, USDA announced that FSIS would mobilize a stronger and more comprehensive effort to reduce Salmonella illnesses associated with poultry products. A key component of this effort is identifying ways to incentivize the use of preharvest controls to reduce Salmonella contamination coming into the slaughterhouse. Under the pilot projects program, establishments will experiment with new or existing pathogen control and measurement strategies and share data with FSIS. Associations may also submit aggregate data. The data will be analyzed by FSIS to determine whether they support changes to FSIS existing Salmonella control strategies.

Description of Respondents: Business-for-not for-profit; Farms; State, Local or Tribal Government.

Number of Respondents: 40.

Frequency of Responses: Reporting; Other (one-time).

Total Burden Hours: 620.

Rachelle Ragland-Greene,
Acting Departmental Information Collection Clearance Officer.

[FR Doc. 2024-09093 Filed 4-26-24; 8:45 am]

BILLING CODE 3410-DM-P